DEPARTMENT OF EDUCATION

Applications for New Awards; Educational Technology, Media, and Materials for Individuals With Disabilities—National Center on Accessible Educational Materials for Learning

AGENCY: Office of Special Education and Rehabilitative Services, Department of Education.

ACTION: Notice.

Overview Information:

Educational Technology, Media, and Materials for Individuals with Disabilities—National Center on Accessible Educational Materials for Learning.

Notice inviting applications for a new award for fiscal year (FY) 2014.

Catalog of Federal Domestic Assistance (CFDA) Number: 84.327Z.

DATES:

Applications Available: May 9, 2014.

Deadline for Transmittal of Applications: June 23, 2014.

Deadline for Intergovernmental Review: August 22, 2014.

Full Text of Announcement

I. Funding Opportunity Description

Purpose of Program: The purposes of the Educational Technology, Media, and Materials for Individuals with Disabilities Program ¹ are to improve results for children with disabilities by: (1) Promoting the development, demonstration, and use of technology; (2) supporting educational media activities designed to be of educational value in the classroom for students with disabilities; (3) providing support for captioning and video description that is appropriate for use in the classroom; and (4) providing accessible educational materials to students with disabilities in a timely manner.

¹ This program was formerly called “Technology and Media Services for Individuals with Disabilities.” The Department has changed the name to Educational Technology, Media, and Materials for Individuals with Disabilities and updated the purposes of the program to more clearly convey that the program includes accessible educational materials. The program's activities and statutory authorization (20 U.S.C. 1474) remain unchanged.

Priority: In accordance with 34 CFR 75.105(b)(2)(v), this priority is from allowable activities specified in the statute (see sections 674 and 681(d) of the Individuals with Disabilities Education Act (IDEA) (20 U.S.C. 1400 et seq.)).

Absolute Priority: For FY 2014 and any subsequent year in which we make awards from the list of unfunded applicants from this competition, this priority is an absolute priority. Under 34 CFR 75.105(c)(3), we consider only applications that meet this priority.

This priority is:

Educational Technology, Media, and Materials for Individuals with Disabilities—National Center on Accessible Educational Materials for Learning.

Background:

The purpose of this priority is to fund a cooperative agreement to establish and operate a National Center on Accessible Educational Materials for Learning (Center). The Center will work with State educational agencies (SEAs), local educational agencies (LEAs), and other stakeholders to improve the quality, availability, and timely delivery of accessible educational materials and technologies for use by infants, toddlers, children, and youth with disabilities (hereafter referred to as “children with disabilities” and includes children who are blind or other persons with print disabilities). The Center's efforts will help support equitable opportunities for children with disabilities to: (1) Participate in high-quality early learning programs, (2) be involved in and progress in the general education curriculum, (3) prepare to meet college- and career-ready standards, (4) participate in assessments, and (5) transition to postsecondary education and the workforce.

The Center will achieve these results by: (1) Providing information to OSEP on how the technical specifications of the National Instructional Materials Accessibility Standards (NIMAS) can be improved to ensure digital files meet the same standard and can be easily converted into whatever accessible format meets the unique needs of children who are blind or other persons with print disabilities; (2) providing technical assistance (TA) to build the capacity of stakeholders to design, develop, procure, and maintain technologies for use in schools and workplaces that conform to robust accessibility standards and, as appropriate, NIMAS; (3) providing TA to SEAs, LEAs, and other stakeholders to ensure the adoption and implementation of efficient, effective, and unified distribution systems or to ensure the improvement of existing systems for the timely delivery of accessible educational materials and technologies to children with disabilities, including those children with disabilities who may be underserved; ² and (4) providing TA to postsecondary education and workforce development agencies or offices to ensure the availability and use of accessible educational materials and technologies by children with disabilities transitioning to postsecondary education and the workforce.

² As used in this priority and in a manner consistent with 20 U.S.C. 7255(a) of the Elementary and Secondary Education Act of 1965, as amended, “underserved populations” include disadvantaged, illiterate, limited English proficient populations, and individuals with disabilities.

Under section 612(a)(1) of the Individuals with Disabilities Education Act (IDEA), States must ensure that a free appropriate public education (FAPE) be made available to all children with disabilities.³ IDEA also requires that all children with disabilities are included in all general State and districtwide assessment programs (see section 612(a)(16)). Accessible educational materials and technologies enable children with disabilities to have access to, and be involved in and make progress in, the general education curriculum (or for a preschool child, to participate in appropriate activities) and assessments. The 2004 amendments to IDEA required the Secretary to establish, and States to adopt, the NIMAS to improve the timely production and dissemination of educational materials in accessible formats for students who are blind or other persons with print disabilities (see sections 612(a)(23) and 674(e) of IDEA). The NIMAS ensures that digital files meet a consistent standard and can be easily converted into whatever accessible format meets the unique needs of these students. In addition, SEAs and LEAs are responsible for ensuring that children with disabilities who need instructional materials in accessible formats but are not included under the definition of blind or other persons with print disabilities, or who need materials that cannot be produced from NIMAS files, also receive those instructional materials in a timely manner (34 CFR 300.172(b)(3) and 300.210(b)(3)).

³ FAPE involves providing special education, related services, and supplementary aides and services, including educational materials in accessible formats for children with disabilities who are blind or other persons with print disabilities who are eligible for services under Part B of IDEA.

To support SEAs' and LEAs' efficient and timely distribution of accessible materials, OSEP established the National Instructional Materials Access Center (NIMAC) to serve as a national repository to receive and store NIMAS source files and make them available to States. Currently, SEAs and LEAs obtain NIMAS files directly from publishers or from the NIMAC and convert those files into specialized formats for use exclusively by children who are blind or other persons with print disabilities.

OSEP currently funds cooperative agreements to support the NIMAS Center and the National Center on Accessible Instructional Materials (AIM Center). The NIMAS Center provides information on improving ⁴ the technical specifications of the NIMAS to ensure children who are blind or other persons with print disabilities have access to as broad a range of print educational materials as possible through the use of electronic file formatting technology. To support the implementation of NIMAS, the AIM Center provides a continuum of TA and resources to SEAs, LEAs, and other stakeholders to develop and implement efficient, unified distribution systems to support and improve the timely delivery of high quality accessible educational materials to all children with disabilities who need educational materials in accessible formats. Both grants are scheduled to end in FY 2014. However, SEAs, LEAs, and other stakeholders will continue to need support to ensure the timely delivery of accessible educational materials and technologies to children with disabilities, including a national repository to receive and store NIMAS source files.

⁴ In June 2012, after reviewing information provided by the NIMAS Center, OSEP issued a Dear Colleague Letter encouraging publishers to use the most current version of MathML, currently MathML3, for the markup of mathematics and scientific content in NIMAS filesets. The OSEP Dear Colleague Letter, dated June 22, 2012, is available at http://www2.ed.gov/policy/speced/guid/idea/memosdcltrs/osers-nimas.pdf.

Current reform initiatives are transforming the learning environment and may provide opportunities for SEAs, LEAs, and other stakeholders to leverage the potential educational benefits of emerging and innovative technologies. These reform initiatives call for high-quality early learning programs and development opportunities for infants and toddlers (Preschool Curriculum Evaluation Research Consortium, 2008; U.S. Department of Education, 2013) and they also include ambitious academic content and performance expectations that call for teaching methods and learning strategies that promote student mastery of those expectations and the ability to apply what has been learned to real-world situations and problems (Darling-Hammond & Pecheone, 2010; Herman & Linn, 2013; National Research Council, 2000, 2012a, 2012b; Sato, Lagunoff, & Worth, 2011; and U.S. Department of Education, 2010). The efficient delivery of accessible educational materials and technologies to children with disabilities helps to support their ability to participate in high-quality early learning programs, be involved in, and make progress in, the general education curriculum, meet college- and career-ready standards, and participate in assessments.

Today's learning tasks increasingly leverage the power of technology to transform early learning programs, the way teachers teach, how children learn, and how assessments are used (Bailey, Henry, McBride, & Puckett, 2011; Duffey & Fox, 2012; Fletcher, Schaffhauser, & Levi, 2012; Johnson, Adams, & Cummins, 2012; National Center for Education Statistics, 2012; Project Tomorrow, 2011; U.S. Department of Education, 2010, 2013). As recipients of Federal financial assistance, SEAs and LEAs that choose to incorporate technology into their instruction or other developmental activities for all students will need support to ensure those technologies conform to nationally accepted accessibility standards in order to meet the needs of students with disabilities (U.S. Department of Justice, 2012). Accessible formats of electronic textbooks and other emerging technologies may require NIMAS convergence with nationally accepted accessibility standards for electronic and information technologies. To ensure accessibility, the Center, working closely with the electronic publishing industry, will facilitate the alignment of the NIMAS standard with electronic publishing standards.

In 2010, the U.S. Department of Education's Office for Civil Rights issued a Dear Colleague Letter ⁵ informing colleges and universities that “[e]nsuring equal access to emerging technology in university and college classrooms is a means to the goal of full integration and equal educational opportunity for this nation's students with disabilities.” Similarly, the U.S. Department of Labor's Office of Disability Employment Policy ⁶ (ODEP) has a long history of exploring the law, policies, practices, and procedures to advance the development and adoption of accessible, interoperable, and usable workplace technologies. Addressing the availability, use, and updating of accessible educational materials and technologies to support students with disabilities who transition to postsecondary education settings and the workplace remains a critically important task.

⁵ U.S. Department of Education's Office for Civil Rights, 2010. The Dear Colleague Letter is available at http://www2.ed.gov/about/offices/list/ocr/letters/colleague-20100629.pdf.

⁶ U.S. Department of Labor's Office of Disability Employment Policy. Framework for Designing and Implementing Accessible Information and Communication Technology Strategic Plans: Accessible Technology in the Workplace Initiative is available at www.dol.gov/odep/pdf/20120224FDIA-ICT-StrategicPlans.pdf.

Priority:

The purpose of this priority is to fund a cooperative agreement to establish and operate a National Center on Accessible Educational Materials for Learning (Center) that, at a minimum—

(a) Provides information to OSEP on how the NIMAS technical specifications can be improved to ensure children who are blind or other persons with print disabilities, have access to as broad a range of print educational materials as possible through the use of electronic file formatting technology; ⁷

⁷ As used in this priority, “technology” means any equipment or interconnected system or subsystem for which the principal function is the creation, conversion, duplication, movement, control, display, switching, interchange, transmission, reception, or broadcast of data or information. It includes, but is not limited to, electronic content; telecommunication products; computers and ancillary equipment; software; information kiosks; transaction machines; videos; information technology services; and multifunction office machines that copy, scan, and fax documents.

(b) Increases the capacity of stakeholders ⁸ to design, develop, maintain, and distribute technologies that conform to robust accessibility standards ⁹ and, as appropriate, NIMAS;

⁸ As used in this priority, the term “stakeholders” includes, but is not limited to, children with disabilities; parents; educational materials designers, developers, and distributors; educational publishers; authorized users; accessible media producers; agencies or organizations responsible for establishing accessibility standards for commercial electronic publications and instructional materials; institutions of higher education; workforce development agencies or offices; and other OSEP-funded projects.

⁹ As used in this priority, “accessibility standards” means current or revised electronic and information technology accessibility standards (EITAS) developed and implemented under the authority of Section 508 of the Rehabilitation Act (29 U.S.C. 794d(2)(A)) as well as interstate and international communication access guidelines authorized under the Telecommunication Act Accessibility Guidelines (47 U.S.C. 255). The use of designs or technologies as alternatives to the EITAS is permitted provided they result in substantially equivalent or greater access to and use of a product for individuals with disabilities (36 CFR part 1194.5). The annual Section 508 Report to the President and Congress indicated the most common accessibility standards used by recipients of Federal financial assistance are Section 508 EITAS and the Web Content Accessibility Guidelines (see www.ada.gov/508/508_Report.htm).

(c) Achieves the adoption and implementation of efficient, effective, and unified distribution systems or the improvement of existing systems by SEAs, LEAs, and other stakeholders to ensure the timely delivery of accessible educational materials ¹⁰ and technologies to children with disabilities; ¹¹ and

¹⁰ As used in this priority, “accessible educational materials” means print- and technology-based educational materials, including printed and electronic textbooks and related core materials that are required by SEAs and LEAs for use by all students, produced or rendered in accessible media, written and published primarily for use in early learning programs, elementary, or secondary schools to support teaching and learning.

¹¹ As used in this priority, “children with disabilities” includes children who are blind or other persons with print disabilities. As used in this priority, the term “blind or other persons with print disabilities” means children served under IDEA and who may qualify under the Act entitled “An Act to Provide Books for the Adult Blind,” approved March 3, 1931 (2 U.S.C. 135a; 46 Stat. 1487), to receive books and other publications produced in specialized formats. (see Section 20 U.S.C. 1474(e)(3)(A)).

(d) Improves the capacity of postsecondary education and workforce development agencies or offices to ensure the availability and use of accessible educational materials and technologies by children with disabilities who are transitioning to postsecondary education settings and workplaces.

In addition to these programmatic requirements, to be considered for funding under this priority, applicants must meet the application and administrative requirements in this priority. OSEP encourages innovative approaches to meet these requirements, which are to:

(a) Demonstrate, in the narrative section of the application under “Significance of the Project,” how the proposed project will—

(1) Address the need for accessible educational materials and technologies to support equitable opportunities in early learning programs, schools, and workplaces. To meet this requirement the applicant must—

(i) Present applicable national, State, regional, or local data demonstrating the need for accessible educational materials and technologies in schools and workplaces for children with disabilities, including children with disabilities who may be underserved; and

(ii) Demonstrate knowledge of the following:

(A) Benefits, services, or opportunities that are available through the use of educational materials and technologies in schools and workplaces that are fully accessible to children with disabilities, including children with disabilities who may be underserved;

(B) Standards and technical specifications used to support the preparation of electronic files and used solely for efficient conversion into specialized formats to provide access to printed and electronic textbooks and related core materials;

(C) Accepted accessibility standards and industry-developed specifications for technologies used in schools and workplaces; and

(D) TA resources available to stakeholders and personnel in early learning programs, schools and workplaces, to support the design, development, maintenance, distribution, timely delivery, and use of accessible educational materials and technologies;

(2) Increase the capacity of stakeholders to design, develop, maintain, and distribute technologies that conform to robust accessibility standards and, as appropriate, NIMAS. To address this requirement the applicant must—

(i) Identify current policies, procedures, and practices used by early learning programs, schools, workplaces, and other stakeholders to ensure the availability and use of accessible educational materials and technologies; and

(ii) Identify strategies to address gaps or challenges faced by early intervention programs, schools, workplaces, and other stakeholders to ensure the availability and use of accessible educational materials and technologies; and

(3) Increase knowledge and identify dissemination strategies to enable SEAs, LEAs, and other stakeholders to develop, implement, and sustain efficient, unified distribution systems and improve existing systems to ensure the availability and use of accessible educational materials and technologies in early learning programs, schools, and workplaces.

(b) Demonstrate, in the narrative section of the application under “Quality of Project Services,” how the project will—

(1) Ensure equal access and treatment for members of groups that have traditionally been underrepresented based on race, color, national origin, gender, age, or disability. To meet this requirement, the applicant must describe how it will—

(i) Identify the needs of the intended recipients for TA and information; and

(ii) Ensure that products and services ¹² meet the needs of the intended recipients (e.g., by creating materials in formats and languages accessible to the stakeholders served by the intended recipients);

¹² As used in this priority, a “product” means a piece of work, in tangible or electronic form developed and disseminated by an OSEP-funded project to contribute to improved outcomes for children with disabilities. As used in this priority, “service” means work performed by an OSEP-funded project to provide information or assistance to a specific audience to contribute to improved outcomes for children with disabilities.

(2) Achieve its goals, objectives, and intended outcomes. To meet this requirement, the applicant must provide—

(i) Measurable intended project outcomes; and

(ii) The logic model on how the proposed project will achieve its intended outcomes;

(3) Use a conceptual framework to develop project plans and activities describing any underlying concepts, assumptions, expectations, beliefs, or theories, as well as the presumed relationships or linkages among these variables, and any empirical support for this framework.

(4) Be based on current research and make use of evidence-based practices. To meet this requirement, the applicant must describe—

(i) The current research and evidence-based practices related to the benefits, services, or opportunities that are available through the use of educational materials and technologies in schools and workplaces;

(ii) The accessibility standards and industry-developed guidelines used in the design, development, maintenance, and distribution of accessible educational materials and technologies;

(iii) The current state of SEA distribution systems to ensure the quality, availability, and timely delivery of accessible educational materials and technologies to children with disabilities, including children with disabilities who may be underserved;

(iv) Workplace policies, procedures, and practices for the adoption and implementation of accessible workplace technologies; and

(v) The process the proposed project will use to incorporate current research and evidence-based practices to guide the development and delivery of its products and services;

(5) Develop new products and services that are of high quality and sufficient intensity and duration to achieve the intended outcomes of the proposed project. To address this requirement, the applicant must describe—

(i) Its proposed activities to identify, develop, or expand the knowledge base of SEAs, LEAs, and other stakeholders on accessible educational materials and technologies in early learning programs, schools, and workplaces;

(ii) Its proposed plan to identify educational benefits, services, and opportunities for using accessible educational materials and technologies in early learning programs, schools, and workplaces;

(iii) Its proposed plan to identify systemic barriers to and critical components of efficient, unified, and effective State distribution systems;

(iv) Its proposed plan to identify policies, procedures, and practices addressing accessible workplace technologies;

(v) Its proposed plan to identify technology design criteria that conform to accepted accessibility standards, NIMAS, and when appropriate, widely used electronic publishing industry standards;

(vi) Its proposed approach to universal, general TA,¹³ including the intended recipients of the products and services under this approach. To address this requirement, the applicant must, at a minimum, describe—

¹³ As used in this priority, “universal, general TA” means passive technical assistance (TA) and information provided to independent users through their own initiative resulting in minimal interaction with TA Center staff and includes one-time, invited or offered conference presentations by TA Center staff. This category of TA also includes information or products, such as newsletters, guidebooks, or research syntheses, downloaded from the TA Center's Web site by independent users. Brief communications by TA Center staff with recipients, either by telephone or email, are also considered “universal, general TA.”

(A) The proposed project's plan to disseminate information gained from the knowledge development activities;

(B) The proposed plan to meet the needs of multiple audiences using information collected in paragraph (b)(4) of this priority so that the data and information are easily accessible by multiple audiences (e.g., Web sites, newsletters, guidebooks, research syntheses, conference presentations, and published articles); and

(C) The proposed project's plan to increase access to comprehensive and accurate information on implementing relevant legal requirements ¹⁴ and on the use of effective strategies by early learning programs, schools, and workplaces, and, as appropriate, by other stakeholders to support the design, development, maintenance, distribution, procurement, timely delivery, and use of accessible educational materials and technologies;

¹⁴ As used in this priority, the term “legal requirements” includes, but is not limited to: IDEA, Elementary and Secondary Education Act, Higher Education Improvement Act, Workforce Improvement Act, Rehabilitation Act, Telecommunication Act, Assistive Technology Act, and the Americans with Disabilities Act.

(vii) Its proposed approach to targeted, specialized TA,¹⁵ including the recipients of the products and services under this approach. To address this requirement, the applicant must describe—

¹⁵ As used in this priority, “targeted, specialized TA” means technical assistance (TA) service developed based on needs common to multiple recipients and not extensively individualized. A relationship is established between the TA recipient and one or more TA Center staff. This category of TA can be one-time, labor-intensive events, such as facilitating strategic planning or hosting regional or national meetings. They can also be episodic, less labor-intensive events that extend over a period of time, such as facilitating a series of conference calls on single or multiple topics that are designed around the needs of the recipients. Facilitating communities of practice can also be considered “targeted, specialized TA.”

(A) The proposed project's plan to provide support and coordinate with federally funded projects and national professional organizations and their State and local affiliates to increase their efficiency and effectiveness in disseminating their products and delivering their services within State systems for the development, maintenance, distribution, and procurement of accessible educational technologies and technologies in early learning programs, schools, and workplaces; and

(B) The proposed project's plan to facilitate communication and increased collaboration among multiple stakeholders to problem-solve together, share information and materials, and deliver a consistent message on the importance of supporting the implementation of this priority (see paragraph (b)(5)(vi)(C)) to ensure full benefits, services, and supports to intended audiences, as appropriate, in early learning programs, schools, and workplaces.

(viii) Its approach to intensive, sustained TA,¹⁶ including the intended recipients of the products and services under this approach. To address this requirement, the applicant must describe—

¹⁶ As used in this priority, “intensive, sustained TA” means TA services often provided onsite and requires a stable, ongoing relationship between the TA center staff and the TA recipient. “TA services” are defined as negotiated series of activities designed to reach a valued outcome. This category of TA should result in a change to policy, program, practice, or operations that support increased recipient capacity or improved outcomes at one or more systems levels.

(A) The proposed project's plan for selecting SEAs with whom they will work; and

(B) The proposed project's plan for assisting the selected SEAs to develop, implement, and sustain efficient, effective, and unified distribution systems to ensure the timely delivery of accessible educational materials and technologies to children with disabilities, including children with disabilities who may be underrepresented;

(6) Develop products and implement services that maximize the project's efficiency. To address this requirement, the applicant must describe—

(i) How the proposed project will use accessible, existing, emerging, and innovative technology to achieve the intended project outcomes;

(ii) The collaboration of appropriate partners for maximizing the effectiveness of the project's products and services. The Center must identify the members of this group to OSEP within eight weeks after receipt of the award;

(iii) How the proposed project will use non-project resources to achieve the intended project outcomes; and

(iv) How the proposed project will improve the likelihood that the products and services will be used effectively in a variety of other settings.

(c) Demonstrate, in the narrative section of the application under “Adequacy of Project Resources,” how—

(1) The proposed key personnel, consultants, and contractors have the qualifications, experience, and commitment to carry out the proposed activities and achieve the project's intended outcomes;

(2) The proposed project will encourage applications for employment from persons who are members of groups that have traditionally been underrepresented based on race, color, national origin, linguistic diversity, gender, age, or disability, as appropriate;

(3) The applicant and key partners have adequate resources to carry out proposed project activities; and

(4) The proposed costs are reasonable in relation to the anticipated results and benefits.

(d) Demonstrate, in the narrative section of the application under “Quality of the Management Plan,” how—

(1) The proposed management plan will ensure that the project's intended outcomes will be achieved on time and within budget. To address this requirement, the applicant must describe—

(i) Clearly defined responsibilities for key project personnel, consultants, and subcontractors, as applicable; and

(ii) Timelines and milestones for accomplishing the project tasks;

(2) Key personnel, consultants, and contractors will be sufficiently allocated to the project and how these allocations are appropriate and adequate to achieve the project's intended outcomes;

(3) The proposed management plan will ensure that the products and services provided are of high quality; and

(4) The proposed project will benefit from a diversity of perspectives, including, but not limited to, families; early intervention service providers; educators; publishers; designers; developers; vendors; researchers; parent training and information centers; policy makers; the business community; SEAs and lead agencies; and other OSEP-funded projects.

(e) In the narrative section of the application under “Quality of the Evaluation Plan,” include an evaluation plan as described in the following paragraphs. The evaluation plan must describe: Measures of progress in implementation, including the extent to which the project's products and services have reached its target population; and measures of intended outcomes or results of the project's activities in order to assess the effectiveness of those activities.

In designing the evaluation plan, the project must—

(1) Designate, with the approval of the OSEP project officer, a project liaison staff person with sufficient dedicated time, experience in evaluation, and knowledge of the project to work in collaboration with the Center to Improve Project Performance (CIPP),¹⁷ the project director, and the OSEP project officer on the following tasks:

¹⁷ The major tasks of CIPP are to guide, coordinate, and oversee the design of formative evaluations for every large discretionary investment (i.e., those awarded $500,000 or more per year and required to participate in the 3+2 process) in OSEP's Technical Assistance and Dissemination; Personnel Development; Parent Training and Information Centers; and Educational Technology, Media, and Materials programs. The efforts of CIPP are expected to enhance individual project evaluation plans by providing expert and unbiased technical assistance in designing the evaluations with due consideration of the project's budget. CIPP does not function as a third-party evaluator.

(i) Revise, as needed, the logic model submitted in the grant application to provide for a more comprehensive measurement of implementation and outcomes and to reflect any changes or clarifications to the model discussed at the kick-off meeting;

(ii) Refine the evaluation design and instrumentation proposed in the grant application consistent with the logic model (e.g., preparing evaluation questions about significant program processes and outcomes, developing quantitative or qualitative data collections that permit both the collection of progress data, including fidelity of implementation, as appropriate, and the assessment of effectiveness, selecting respondent samples if appropriate, designing instruments or identifying data sources, and identifying analytic strategies); and

(iii) Revise, as needed, the evaluation plan submitted in the grant application such that it clearly—

(A) Specifies the measures and associated instruments or sources for data appropriate to the evaluation questions, suggests analytic strategies for those data, provides a timeline for conducting the evaluation, and includes staff assignments for completion of the plan;

(B) Delineates the data expected to be available by the end of the second project year for use during the project's intensive review for continued funding described under the heading Fourth and Fifth Years of the Project; and

(C) Can be used to assist the project director and the OSEP project officer, with the assistance of CIPP, as needed, to specify the performance measures to be addressed in the project's Annual Performance Report;

(2) Cooperate with CIPP staff in order to accomplish the tasks described in paragraph (e)(1) of this priority; and

(3) Dedicate sufficient funds in each budget year to cover the costs of carrying out the tasks described in paragraphs (e)(1) and (e)(2) of this priority and implementing the evaluation plan.

(f) In the narrative under “Required Project Assurances” or appendices as directed, the applicant must—

(1) Include in Appendix A a logic model that depicts, at a minimum, the goals, activities, outputs, and intended outcomes of the proposed project. A logic model communicates how a project will achieve its intended outcomes and provides a framework for both the formative and summative evaluations of the project.

Note: The following Web sites provide more information on logic models: www.researchutilization.org/matrix/logicmodel_resource3c.html and www.tadnet.org/pages/589;

(2) Include in Appendix A a conceptual framework for the project;

(3) Include in Appendix A person-loading charts and timelines to illustrate the management plan described in the narrative;

(4) Include in the budget attendance at the following:

(i) A one and one-half day kick-off meeting to be held in Washington, DC, after receipt of the award, and an annual planning meeting held in Washington, DC, with the OSEP project officer and other relevant staff during each subsequent year of the project period.

Note: Within 30 days of receipt of the award, a post-award teleconference must be held between the OSEP project officer and the grantee's project director or other authorized representative;

(ii) A three-day project directors' conference in Washington, DC, during each year of the project period;

(iii) One trip annually to attend Department briefings, Department-sponsored conferences, and other meetings, as requested by OSEP; and

(iv) A one-day intensive review meeting in Washington, DC, during the last half of the second year of the project period;

(5) Ensure that the budget includes—

(i) A line item for an annual set-aside of five percent of the grant amount to support emerging needs that are consistent with the proposed project's activities, as those needs are identified in consultation with OSEP.

Note: With approval from the OSEP project officer, the Center should reallocate any remaining funds from this annual set-aside no later than the end of the third quarter of each budget period; and

(ii) A line item for a summative evaluation to be conducted by an independent third party; and

(6) Ensure that the project maintains a Web site that meets government or industry-recognized standards for accessibility.

Fourth and Fifth Years of the Project:

In deciding whether to continue funding the project for the fourth and fifth years, the Secretary will consider the requirements of 34 CFR 75.253(a), as well as—

(a) The recommendation of a review team consisting of experts selected by the Secretary. This review will be conducted during a one-day intensive meeting that will be held during the last half of the second year of the project period.

(b) The timeliness and effectiveness with which all requirements of the negotiated cooperative agreement have been or are being met by the project; and

(c) The quality, relevance, and usefulness of the project's activities and products and the degree to which the project's activities and products are aligned with the project's objectives and likely to result in the project achieving its proposed outcomes.

References

Bailey, A., Henry, T., McBride, L., & Puckett, J. (2011). Unleashing the potential of technology in education. Boston, MA: The Boston Consulting Group. Retrieved from http://net.educause.edu/ir/library/pdf/CSD6149.pdf.

Darling-Hammond, L., & Pecheone, R. (2010). Developing an internationally comparable balanced assessment system that supports high-quality learning. Princeton, NJ: Educational Testing Services. Retrieved from www.K12center.org/rsc/pdf/Darling-HammondPechoneSystemModel.pdf.

Duffey, D., & Fox, C. (2012). National Educational Technology Trends 2012: State Leadership Empower Educators, Transforming Teaching and Learning. Washington, DC: State Educational Technology Directors Association (SEDTA). Retrieved from www.eric.ed.gov/PDFS/ED536746.pdf.

Fletcher, G., Schaffhauser, D., & Levi, D. (2012). Out of print: Reimaging the K-12 textbook in a digital age. Washington, DC: State Educational Technology Directors Association (SEDTA). Retrieved from http://files.eric.ed.gov/fulltext/ED536747.pdf.

Herman, J.L., & Linn, R.L. (2013). On the road to assessing deeper teaching: The status of Smarter Balanced and PARCC Assessment Consortia (CRESST Report 823). Los Angeles, CA: University of California, National Center for Research on Evaluation, Standards, and Student Testing (CRESST). Retrieved from www.cse.ucla.edu/products/reports/R823.pdf.

Johnson, L., Adams, S., & Cummins, N. (2012). NMC Horizon Report: 2012 K-12 Edition. Austin, TX: The New Media Consortium. Retrieved from www.iste.org/docs/documents/2012-horizon-report_k12.pdf?sfvrsn=2.

National Center for Education Statistics. (2012). NAEP: Looking ahead—Leading assessment into the future. Washington, DC: Author. Retrieved from http://nces.ed.gov/nationsreportcard/pdf/Future_of_NAEP_Panel_White_Paper.pdf.

National Research Council. (2000). How people learn: Brain, mind, experience, and school: Expanded Edition. Washington, DC: National Academies Press. Retrieved from www.nap.edu/catalog.php?record_id=9853.

National Research Council. (2012a). Education for life and work: Developing transferable knowledge and skills in the 21st century. Washington, DC: The National Academies Press. Retrieved from http://nap.edu/catalog.php?record_id=13398.

National Research Council. (2012b). A framework for K-12 science education: Practices, cross-cutting concepts, and core ideas. Washington, DC: The National Academies Press. Retrieved from www.nap.edu/catalog.php?record_id=13165.

Preschool Curriculum Evaluation Research Consortium. (2008). Effects of Preschool Curriculum Programs on School Readiness (NCER 2008-2009). National Center for Education Research, Institute of Education Sciences, U.S. Department of Education. Washington, DC: U.S. Government Printing Office. Retrieved from http://ies.ed.gov/ncer/pubs/20082009/pdf/20082009_rev.pdf.

Project Tomorrow. (2011). The new 3E's of education: Enabled, engaged, empowered—How today's students are leveraging emerging technologies for learning. Retrieved from http://tomorrow.org/speakup/pdfs/SU10_3EofEducation(Students).pdf.

Sato, E., Lagunoff, R., & Worth, P. (2011). Smarter Balanced Assessment Consortium Common Core State Standards analysis: Eligible content for the summative assessment. San Francisco, CA: WestEd. Retrieved from www.smarterbalanced.org/wordpress/wp-content/uploads/2011/12/Smarter-Balanced-CCSS-Eligible-Content-Final-Report.pdf.

U.S. Department of Education. (2010). A Blueprint for Reform: The Reauthorization of the Elementary and Secondary Education Act. Washington, DC: Author. Retrieved from http://www2.ed.gov/policy/elsec/leg/blueprint/blueprint.pdf.

U.S. Department of Education. (2013). Early Learning: America's Middle Class Promise Begins Early. Washington, DC: Author. Retrieved from www.ed.gov/early-learning.

U.S. Department of Justice, Civil Rights Division. (2012). Section 508 Report to the President and Congress: Accessibility of Federal Electronic and Information Technology. Washington, DC: Author. Retrieved from www.ada.gov/508/508_Report.htm.

Waiver of Proposed Rulemaking: Under the Administrative Procedure Act (APA) (5 U.S.C. 553) the Department generally offers interested parties the opportunity to comment on proposed priorities and requirements. Section 681(d) of IDEA, however, makes the public comment requirements of the APA inapplicable to the priorities in this notice.

Program Authority: 20 U.S.C. 1474 and 1481.

Applicable Regulations: (a) The Education Department General Administrative Regulations (EDGAR) in 34 CFR parts 74, 75, 77, 79, 80, 81, 82, 84, 86, 97, 98, and 99. (b) The Education Department debarment and suspension regulations in 2 CFR part 3485.

Note: The regulations in 34 CFR part 79 apply to all applicants except federally recognized Indian tribes.

Note: The regulations in 34 CFR part 86 apply to institutions of higher education (IHEs) only.

II. Award Information

Type of Award: Cooperative Agreement.

Estimated Available Funds: $1,200,000.

Contingent upon the availability of funds and the quality of applications, we may make additional awards in FY 2015 from the list of unfunded applicants from this competition.

Maximum Award: We will reject any application that proposes a budget exceeding $1,200,000 for a single budget period of 12 months. The Assistant Secretary for Special Education and Rehabilitative Services may change the maximum amount through a notice published in the Federal Register.

Estimated Number of Awards: 1.

Note: The Department is not bound by any estimates in this notice.

Project Period: Up to 36 months with an optional additional 24 months based on performance. Applications must include plans for both the 36 month award and the 24 month extension.

III. Eligibility Information

1. Eligible Applicants: SEAs; LEAs, including public charter schools that are considered LEAs under State law; IHEs; other public agencies; private nonprofit organizations; outlying areas; freely associated States; Indian tribes or tribal organizations; and for-profit organizations.

2. Cost Sharing or Matching: This program does not require cost sharing or matching.

3. Other General Requirements:

(a) Recipients of funding under this program must make positive efforts to employ and advance in employment qualified individuals with disabilities (see section 606 of IDEA).

(b) Each applicant for, and recipient of, funding under this competition must involve individuals with disabilities, or parents of individuals with disabilities ages birth through 26, in planning, implementing, and evaluating the project (see section 682(a)(1)(A) of IDEA).

IV. Application and Submission Information

1. Address To Request Application Package: You can obtain an application package via the Internet or from the Education Publications Center (ED Pubs). To obtain a copy via the Internet, use the following address: www.ed.gov/fund/grant/apply/grantapps/index.html. To obtain a copy from ED Pubs, write, fax, or call the following: ED Pubs, U.S. Department of Education, P.O. Box 22207, Alexandria, VA 22304. Telephone, toll free: 1-877-433-7827. FAX: (703) 605-6794. If you use a telecommunications device for the deaf (TDD) or a text telephone (TTY), call, toll free: 1-877-576-7734.

You can contact ED Pubs at its Web site, also: www.EDPubs.gov or at its email address: edpubs@inet.ed.gov.

If you request an application from ED Pubs, be sure to identify this competition as follows: CFDA number 84.327Z.

Individuals with disabilities can obtain a copy of the application package in an accessible format (e.g., braille, large print, audiotape, or compact disc) by contacting the person or team listed under Accessible Format in section VIII of this notice.

2. Content and Form of Application Submission: Requirements concerning the content of an application, together with the forms you must submit, are in the application package for this competition.

Page Limit: The application narrative (Part III of the application) is where you, the applicant, address the selection criteria that reviewers use to evaluate your application. You must limit Part III to no more than 50 pages, using the following standards:

• A “page” is 8.5″ x 11″, on one side only, with 1″ margins at the top, bottom, and both sides.

• Double-space (no more than three lines per vertical inch) all text in the application narrative, including titles, headings, footnotes, quotations, reference citations, and captions, as well as all text in charts, tables, figures, graphs, and screen shots.

• Use a font that is 12 point or larger.

• Use one of the following fonts: Times New Roman, Courier, Courier New, or Arial. An application submitted in any other font (including Times Roman or Arial Narrow) will not be accepted.

The page limit and double-spacing requirement does not apply to Part I, the cover sheet; Part II, the budget section, including the narrative budget justification; Part IV, the assurances and certifications; or the abstract (follow the guidance provided in the application package for completing the abstract), the table of contents, the list of priority requirements, the resumes, the reference list, the letters of support, or the appendices. However, the page limit and double-spacing requirement does apply to all of Part III, the application narrative, including all text in charts, tables, figures, graphs, and screen shots.

We will reject your application if you exceed the page limit in the application narrative section; or if you apply standards other than those specified in the application package.

3. Submission Dates and Times:

Applications Available: May 9, 2014.

Deadline for Transmittal of Applications: June 23, 2014.

Applications for grants under this competition must be submitted electronically using the Grants.gov Apply site (Grants.gov). For information (including dates and times) about how to submit your application electronically, or in paper format by mail or hand delivery if you qualify for an exception to the electronic submission requirement, please refer to section IV. 7. Other Submission Requirements of this notice.

We do not consider an application that does not comply with the deadline requirements.

Individuals with disabilities who need an accommodation or auxiliary aid in connection with the application process should contact the person listed under FOR FURTHER INFORMATION CONTACT in section VII of this notice. If the Department provides an accommodation or auxiliary aid to an individual with a disability in connection with the application process, the individual's application remains subject to all other requirements and limitations in this notice. Deadline for Intergovernmental Review: August 22, 2014.

4. Intergovernmental Review: This competition is subject to Executive Order 12372 and the regulations in 34 CFR part 79. Information about Intergovernmental Review of Federal Programs under Executive Order 12372 is in the application package for this competition.

5. Funding Restrictions: We reference regulations outlining funding restrictions in the Applicable Regulations section of this notice.

6. Data Universal Numbering System Number, Taxpayer Identification Number, and System for Award Management: To do business with the Department of Education, you must—

a. Have a Data Universal Numbering System (DUNS) number and a Taxpayer Identification Number (TIN);

b. Register both your DUNS number and TIN with the System for Award Management (SAM) (formerly the Central Contractor Registry (CCR)), the Government's primary registrant database;

c. Provide your DUNS number and TIN on your application; and

d. Maintain an active SAM registration with current information while your application is under review by the Department and, if you are awarded a grant, during the project period.

You can obtain a DUNS number from Dun and Bradstreet. A DUNS number can be created within one-to-two business days.

If you are a corporate entity, agency, institution, or organization, you can obtain a TIN from the Internal Revenue Service. If you are an individual, you can obtain a TIN from the Internal Revenue Service or the Social Security Administration. If you need a new TIN, please allow 2-5 weeks for your TIN to become active.

The SAM registration process can take approximately seven business days, but may take upwards of several weeks, depending on the completeness and accuracy of the data entered into the SAM database by an entity. Thus, if you think you might want to apply for Federal financial assistance under a program administered by the Department, please allow sufficient time to obtain and register your DUNS number and TIN. We strongly recommend that you register early.

Note: Once your SAM registration is active, you will need to allow 24 to 48 hours for the information to be available in Grants.gov and before you can submit an application through Grants.gov.

If you are currently registered with SAM, you may not need to make any changes. However, please make certain that the TIN associated with your DUNS number is correct. Also note that you will need to update your registration annually. This may take three or more business days.

Information about SAM is available at www.SAM.gov. To further assist you with obtaining and registering your DUNS number and TIN in SAM or updating your existing SAM account, we have prepared a SAM.gov Tip Sheet, which you can find at: http://www2.ed.gov/fund/grant/apply/sam-faqs.html.

In addition, if you are submitting your application via Grants.gov, you must (1) be designated by your organization as an Authorized Organization Representative (AOR); and (2) register yourself with Grants.gov as an AOR. Details on these steps are outlined at the following Grants.gov Web page: www.grants.gov/web/grants/register.html.

7. Other Submission Requirements: Applications for grants under this competition must be submitted electronically unless you qualify for an exception to this requirement in accordance with the instructions in this section.

a. Electronic Submission of Applications.

Applications for grants under the National Center on Accessible Educational Materials for Learning competition, CFDA number 84.327Z, must be submitted electronically using the Governmentwide Grants.gov Apply site at www.Grants.gov. Through this site, you will be able to download a copy of the application package, complete it offline, and then upload and submit your application. You may not email an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant application for the National Center on Accessible Educational Materials for Learning competition at www.Grants.gov. You must search for the downloadable application package for this competition by the CFDA number. Do not include the CFDA number's alpha suffix in your search (e.g., search for 84.327, not 84.327Z).

Please note the following:

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to Grants.gov under News and Events on the Department's G5 system home page at www.G5.gov.

• You will not receive additional point value because you submit your application in electronic format, nor will we penalize you if you qualify for an exception to the electronic submission requirement, as described elsewhere in this section, and submit your application in paper format.

• You must submit all documents electronically, including all information you typically provide on the following forms: The Application for Federal Assistance (SF 424), the Department of Education Supplemental Information for SF 424, Budget Information—Non-Construction Programs (ED 524), and all necessary assurances and certifications.

• You must upload any narrative sections and all other attachments to your application as files in a PDF (Portable Document) read-only, non-modifiable format. Do not upload an interactive or fillable PDF file. If you upload a file type other than a read-only, non-modifiable PDF or submit a password-protected file, we will not review that material. Additional, detailed information on how to attach files is in the application instructions.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by email. This second notification indicates that the Department has received your application and has assigned your application a PR/Award number (an ED-specified identifying number unique to your application).

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under FOR FURTHER INFORMATION CONTACT in section VII of this notice and provide an explanation of the technical problem you experienced with Grants.gov, along with the Grants.gov Support Desk Case Number. We will accept your application if we can confirm that a technical problem occurred with the Grants.gov system and that that problem affected your ability to submit your application by 4:30:00 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

Exception to Electronic Submission Requirement: You qualify for an exception to the electronic submission requirement, and may submit your application in paper format, if you are unable to submit an application through the Grants.gov system because—

• You do not have access to the Internet; or

• You do not have the capacity to upload large documents to the Grants.gov system; and

• No later than two weeks before the application deadline date (14 calendar days or, if the fourteenth calendar day before the application deadline date falls on a Federal holiday, the next business day following the Federal holiday), you mail or fax a written statement to the Department, explaining which of the two grounds for an exception prevent you from using the Internet to submit your application.

If you mail your written statement to the Department, it must be postmarked no later than two weeks before the application deadline date. If you fax your written statement to the Department, we must receive the faxed statement no later than two weeks before the application deadline date.

Address and mail or fax your statement to: Carmen Sanchez, U.S. Department of Education, 400 Maryland Avenue SW., room 4057, Potomac Center Plaza (PCP), Washington, DC 20202-2600. FAX: (202) 245-7617.

Your paper application must be submitted in accordance with the mail or hand delivery instructions described in this notice.

b. Submission of Paper Applications by Mail.

If you qualify for an exception to the electronic submission requirement, you may mail (through the U.S. Postal Service or a commercial carrier) your application to the Department. You must mail the original and two copies of your application, on or before the application deadline date, to the Department at the following address: U.S. Department of Education, Application Control Center, Attention: (CFDA Number 84.327Z), LBJ Basement Level 1, 400 Maryland Avenue SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you qualify for an exception to the electronic submission requirement, you (or a courier service) may deliver your paper application to the Department by hand. You must deliver the original and two copies of your application by hand, on or before the application deadline date, to the Department at the following address: U.S. Department of Education, Application Control Center, Attention: (CFDA Number 84.327Z), 550 12th Street SW., Room 7039, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this program are from 34 CFR 75.210 and are listed in the application package.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary also requires various assurances including those applicable to Federal civil rights laws that prohibit discrimination in programs or activities receiving Federal financial assistance from the Department of Education (34 CFR 100.4, 104.5, 106.4, 108.8, and 110.23).

3. Additional Review and Selection Process Factors: In the past, the Department has had difficulty finding peer reviewers for certain competitions because so many individuals who are eligible to serve as peer reviewers have conflicts of interest. The standing panel requirements under section 682(b) of IDEA also have placed additional constraints on the availability of reviewers. Therefore, the Department has determined that for some discretionary grant competitions, applications may be separated into two or more groups and ranked and selected for funding within specific groups. This procedure will make it easier for the Department to find peer reviewers by ensuring that greater numbers of individuals who are eligible to serve as reviewers for any particular group of applicants will not have conflicts of interest. It also will increase the quality, independence, and fairness of the review process, while permitting panel members to review applications under discretionary grant competitions for which they also have submitted applications. However, if the Department decides to select an equal number of applications in each group for funding, this may result in different cut-off points for fundable applications in each group.

4. Special Conditions: Under 34 CFR 74.14 and 80.12, the Secretary may impose special conditions on a grant if the applicant or grantee is not financially stable; has a history of unsatisfactory performance; has a financial or other management system that does not meet the standards in 34 CFR parts 74 or 80, as applicable; has not fulfilled the conditions of a prior grant; or is otherwise not responsible.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

4. Performance Measures: Under the Government Performance and Results Act of 1993 (GPRA), the Department has established a set of performance measures, including long-term measures, that are designed to yield information on various aspects of the effectiveness and quality of the Educational Technology, Media, and Materials for Individuals with Disabilities program. These measures are included in the application package and focus on the extent to which projects are of high quality, are relevant to improving outcomes of children with disabilities, contribute to improving outcomes for children with disabilities, and generate evidence of validity and availability to appropriate populations. Projects funded under this competition are required to submit data on these measures as directed by OSEP:

Program Performance Measure #1: The percentage of educational technology, media, and materials projects judged to be of high quality.

Program Performance Measure #2: The percentage of educational technology, media, and materials projects judged to be of high relevance to improving outcomes of infants, toddlers, children, and youth with disabilities.

Program Performance Measure #3: The percentage of educational technology, media, and materials projects that are judged to be of high usefulness in improving results for infants, toddlers, children, and youth with disabilities.

Program Performance Measure #4: The percentage of educational technology, media, and materials projects that validate their products and services.

Program Performance Measure #5: The percentage of educational technology, media, and materials projects that make validated technologies available for widespread use.

Grantees will be required to report information on their project's performance in annual performance reports and additional performance data to the Department (34 CFR 75.590 and 75.591).

5. Continuation Awards: In making a continuation award, the Secretary may consider, under 34 CFR 75.253, the extent to which a grantee has made “substantial progress toward meeting the objectives in its approved application.” This consideration includes the review of a grantee's progress in meeting the targets and projected outcomes in its approved application, and whether the grantee has expended funds in a manner that is consistent with its approved application and budget. In making a continuation grant, the Secretary also considers whether the grantee is operating in compliance with the assurances in its approved application, including those applicable to Federal civil rights laws that prohibit discrimination in programs or activities receiving Federal financial assistance from the Department (34 CFR 100.4, 104.5, 106.4, 108.8, and 110.23).

VII. Agency Contact

FOR FURTHER INFORMATION CONTACT: Carmen Sanchez, U.S. Department of Education, 400 Maryland Avenue SW., Room 4057, PCP, Washington, DC 20202-2600. Telephone: (202) 245-6595.

If you use a TDD or a TTY, call the Federal Relay Service (FRS), toll free, at 1-800-877-8339.

VIII. Other Information

Accessible Format: Individuals with disabilities can obtain this document and a copy of the application package in an accessible format (e.g., braille, large print, audiotape, or compact disc) by contacting the Grants and Contracts Services Team, U.S. Department of Education, 400 Maryland Avenue SW., Room 5075, PCP, Washington, DC 20202-2550. Telephone: (202) 245-7363. If you use a TDD or a TTY, call the FRS, toll free, at 1-800-877-8339.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: May 5, 2014.
Michael K. Yudin,
Acting Assistant Secretary for Special Education and Rehabilitative Services.

[FR Doc. 2014-10646 Filed 5-8-14; 8:45 am]

BILLING CODE 4000-01-P